DEPARTMENT OF ENERGY

10 CFR Parts 1015 and 1018

RIN 1901-AA98

Collection of Claims Owed the United States

AGENCY: Department of Energy.

ACTION: Notice of proposed rulemaking.

SUMMARY: The Department of Energy (DOE) is proposing to amend its regulations governing the collection of claims of the United States for money or property arising from activities under DOE jurisdiction. Because the revisions to DOE's debt collection standards and procedures are not expected to receive any significant adverse comment, the amendment is also being issued as a direct final rule in the “Rules and Regulations” section of this Federal Register. (See also “Discussion of Direct Final Rulemaking” in Section III of the Supplementary Information section of this notice of proposed rulemaking.)

DATES: Public comments must be received on or before September 15, 2003.

ADDRESSES: Comments (3 copies) should be addressed to: Helen O. Sherman, Director, Office of Finance and Accounting Policy (ME-10), Office of Management, Budget and Evaluation, Department of Energy, 1000 Independence Ave., SW., Washington, DC 20585.

FOR FURTHER INFORMATION CONTACT: Philip R. Pegnato, Team Leader, Management Accounting and Cash Management Team, Department of Energy, at (301) 903-9704; or Susan A. Donahue, Accountant, Management Accounting and Cash Management Team, Department of Energy, at (301) 903-4666.

SUPPLEMENTARY INFORMATION:

I. General Information

The proposed revisions to 10 CFR part 1015, including the incorporation of tax refund offset provisions currently in 10 CFR part 1018, would conform DOE's regulations to the Federal Claims Collection Standards issued by the Department of Treasury and the Department of Justice on November 22, 2000; clarify and simplify DOE's debt collection standards; and reflect changes to Federal debt collection procedures under the Debt Collection Improvement Act of 1996 and the General Accounting Office Act of 1996. The rule provisions and the rationale for them are described in the preamble to the direct final rule.

II. Opportunity for Public Comment

Interested persons are invited to participate by submitting data, views or arguments with respect to the rule amendments proposed in this notice. Three copies of written comments should be submitted to the address indicated in the ADDRESSES section of this notice. All comments received will be available for public inspection as part of the administrative record on file for this rulemaking in the Department of Energy Reading Room, Room 1E-090, Forrestal Building, 1000 Independence Avenue, SW., Washington, DC 20585, (202) 586-3142, between the hours 9 a.m. and 4 p.m., Monday through Friday, except Federal holidays. All written comments received by the date indicated in the DATES section of this notice and all other relevant information in the record will be carefully assessed and fully considered prior to the publication of a final rule. Any information or data that the submitter considers to be exempt from public disclosure by law must be so identified and submitted in writing (one copy), as well as one complete copy from which the information believed to be exempt from disclosure is deleted. The Department will determine if the information or data is exempt from disclosure.

DOE has not scheduled a public hearing to receive oral presentations of views, data and arguments because DOE does not believe the proposed rule presents a substantial issue of fact or law or that the proposed rule would likely have a substantial impact on the Nation's economy or large numbers of individuals or businesses. DOE will reconsider this matter if public comments show that such issues or potential impacts exist.

III. Discussion of Direct Final Rulemaking

DOE is proposing to amend its regulations governing the collection on claims of the United States for money or property arising from activities under DOE jurisdiction. In the “Rules and Regulations” section of today's Federal Register, we are approving these revisions as a direct final rule without prior proposal because we view these as noncontroversial revisions and anticipate no adverse comment. We have described the revisions and our rationale for them in the notice of direct final rulemaking. If DOE receives no significant adverse comment, the Department will not take further action on this rule. If DOE receives such an adverse comment on one or more distinct amendments, paragraphs, or sections of the direct final rule, DOE will publish a timely withdrawal in the Federal Register indicating which provisions will become effective and which provisions are being withdrawn due to adverse comment. Any distinct amendments, paragraphs, or sections of the direct final rule for which we do not receive adverse comment will become effective on the date set forth in the direct final rule, notwithstanding any adverse comment on any other distinct amendment, paragraph, or section of today's rule. We will address all public comments in a subsequent final rule based on this proposed rule. We will not institute a second comment period on this action. Any parties interested in commenting must do so at this time.

For the various statutes and Executive Orders that require findings for each rulemaking, DOE incorporates the findings from the notice of direct final rulemaking into this companion notice for the purpose of providing public notice and opportunity for comment.

List of Subjects

10 CFR Part 1015

Administrative practice and procedure, Antitrust, Claims, Federal employees, Fraud, Penalties, Privacy.

10 CFR Part 1018

Claims, Income taxes.

Issued in Washington, on August 7, 2003.
James T. Campbell,
Acting Director, Office of Management, Budget and Evaluation/Acting Chief Financial Officer.

[FR Doc. 03-20584 Filed 8-13-03; 8:45 am]

BILLING CODE 6450-01-P